DEPARTMENT OF STATE

[Public Notice 6382]

30-Day Notice of Proposed Information Collection: DS-4131, Advance Notification Form: Tourist and Other Non-Governmental Activities in the Antarctic Treaty Area, OMB Control Number 1405-0181

ACTION: Notice of request for public comment and submission to OMB of proposed collection of information.

SUMMARY: The Department of State has submitted the following information collection request to the Office of Management and Budget (OMB) for approval in accordance with the Paperwork Reduction Act of 1995.

• Title of Information Collection: Advance Notification Form: Tourist and Other Non-Governmental Activities in the Antarctic Treaty Area.

• OMB Control Number: 1405-0181.

• Type of Request: Revision.

• Originating Office: Office of Oceans Affairs, Bureau of Oceans, Environment and Science (OES/OA).

• Form Number: DS-4131.

• Respondents: Operators of Antarctic expeditions organized in or proceeding from the United States.

• Estimated Number of Respondents: 22.

• Estimated Number of Responses: 22.

• Average Hours Per Response: 10.5 hours.

• Total Estimated Burden: 231 hours.

• Frequency: On occasion.

• Obligation to Respond: Mandatory.

DATES: Submit comments to the Office of Management and Budget (OMB) for up to 30 days from October 2, 2008.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Lawrence R. Hughes, Office of Oceans Affairs, Room 2665, Bureau of Oceans, Environment and Science, U.S. Department of State, 2201 C Street, NW., Washington, DC 20520. Mr. Hughes can be reached at (202) 647-0237 or at HughesLR@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

Information solicited on the Advance Notification Form (DS-4131) is required to provide the U.S. Government with information on tourist and other non-governmental expeditions to Antarctica. This is needed to comply with Article VII(5)(a) of the Antarctic Treaty and comport with Antarctic Treaty Consultative Meeting Recommendation XVIII-1 and Resolution XIX-3.

Methodology

Information will be submitted in signed original by U.S. organizers of tourist and other non-governmental expeditions to Antarctica. Advance copies are submitted by e-mail.

Dated: September 25, 2008.
Margaret F. Hayes,
Director of Oceans Affairs, Bureau of Oceans, Environment and Science, Department of State.

[FR Doc. E8-23280 Filed 10-1-08; 8:45 am]

BILLING CODE 4710-09-P